DEPARTMENT OF HOUSING AND URBAN DEVELOPMENT

[Docket No. FR-5037-N-53]

Notice of Submission of Proposed Information Collection to OMB; Emergency Comment Request; Federal Labor Standards Payee Verification and Payment Processing

AGENCY: Office of Departmental Operations and Coordination, Office of Labor Relations, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: August 21, 2006.

ADDRESSES: Interested persons are invited to submit comments regarding this proposal. Comments must be received within ten (10) days from the date of this Notice. Comments should refer to the proposal by name and should be sent to: HUD Desk Officer, Office of Management and Regulatory Affairs, Office of Management and Budget, New Executive Office Building, Washington, DC 20503.

FOR FURTHER INFORMATION CONTACT: Lillian Deitzer, Departmental Reports Management Officer, QDAM Department of Housing and Urban Development, 451 Seventh Street, SW., Washington, DC 20410; e-mail Lillian_Deitzer@hud.gov, telephone (202) 708-2374. This is not a toll-free number. Copies of documentation submitted to OMB may be obtained from Ms. Deitzer.

SUPPLEMENTARY INFORMATION: This Notice informs the public that the U.S. Department of Housing and Urban Development (HUD) has submitted to OMB, for emergency processing, a proposed information collection requirement as described below.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Federal Labor Standards Payee Verification and Payment Processing.

Description of Information Collection: HUD, and State, local, and Tribal agencies administering HUD-assisted programs must enforce Federal labor standards requirements, including the payment of prevailing wage rates to laborers and mechanics employed on HUD-assisted construction and maintenance work that is covered by these requirements. Enforcement activities include securing funds to ensure the payment of wage restitution that has been or may be found due to laborers and mechanics who were employed on HUD-assisted projects, and the payment of liquidated damages that may be assessed for violations of Contract Work Hours and Safety Standards Act (CWHSSA) overtime violations. Ultimately, these funds are deposited to an account in the U.S. Treasury. If the labor standards discrepancies are resolved, HUD refunds associated amounts to the depositor. As underpaid laborers and mechanics are located, HUD sends wage restitution payments to the effected workers. Liquidated damages assessed for CWHSSA overtime violations are retained by HUD.

In order to make refunds and wage restitution payments, HUD must verify the identity of the payee to ensure that the refund is made to the correct depositor or to the correct worker before payment is made. In order to complete these verifications, HUD will request information such as the depositor's or payee's tax identification number (i.e., employer identification number or Social Security Number); the project name or number; and/or the worker's employer's name.

All refunds from labor standards deposit accounts are made, electronically. Depositors entitled to a refund must provide to HUD the name, address, and its account information for the banking institution to which it wants the refund sent. Wage restitution payments may be made by check or electronically, at the payee's choice. HUD must verify the payee's mailing address, so that a check may be sent to them, or request banking information for an electronic payment.

OMB Control Number: 2501 (Pending)

Agency Form Numbers: HUD-4734, Labor Standards Deposit Voucher. This form is completed by HUD staff after depositor or payee verification and the collection of payment processing information, i.e., banking details or mailing address.

Members of Affected Public: Developers and prime contractors engaged on HUD-assisted construction or maintenance work subject to Federal labor standards requirements; construction and maintenance laborers and mechanics employed on HUD-assisted projects subject to Federal labor standards requirements that are entitled to wage restitution.

Estimation of the total numbers of hours needed to prepare the information collection including number of respondents, frequency of responses, and hours of response: The estimated number of respondents is 50 per year. The estimated number of hours needed per respondent is 0.1 hour. The total public burden is estimated to be 5 hours per year. Payees do not need to complete a form; the information may be collected by HUD in person, by telephone, or in writing, at the payee's option.

Status: New Collection.

Authority: The Paperwork Reduction Act of 1995, 44 U.S.C. Chapter 35, as amended.

Dated: August 3, 2006.
Lillian Deitzer,
Departmental Reports Management Officer, Office of the Chief Information Officer.

[FR Doc. E6-12992 Filed 8-8-06; 8:45 am]

BILLING CODE 4210-67-P